INTERNATIONAL TRADE COMMISSION

[Inv. No. 337-TA-493]

Certain Zero-Mercury-Added Alkaline Batteries, Parts Thereof, and Products Containing Same; Notice of a Commission Determination Not to Review an Initial Determination Amending the Complaint and Notice of Investigation To Add a Respondent to the Investigation

AGENCY: International Trade Commission.

ACTION: Notice.

SUMMARY: Notice is hereby given that the U.S. International Trade Commission has determined not to review an initial determination (“ID”) of the presiding administrative law judge (“ALJ”) granting the motion of complainants to amend the complaint and notice of investigation to add Hitachi Maxell, Ltd. as a respondent.

FOR FURTHER INFORMATION CONTACT: Michael K. Haldenstein, Esq., Office of the General Counsel, U.S. International Trade Commission, telephone (202) 205-3041. Copies of the ALJ's ID and all other nonconfidential documents filed in connection with this investigation are or will be available for inspection during official business hours (8:45 a.m. to 5:15 p.m.) in the Office of the Secretary, U.S. International Trade Commission, 500 E Street, SW, Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission instituted this investigation on May 27, 2003, based on a complaint filed by complainants Energizer Holdings, Inc. and Eveready Battery Co., Inc., both of St. Louis, MO, 68 FR 32771 (2003). The complaint as amended alleges violations of section 337 of the Tariff Act of 1930 in the importation into the United States, the sale for importation, and the sale within the United States after importation of certain zero-mercury-added alkaline batteries, parts thereof, and products containing same by reason of infringement of claims 1-12 of U.S. Patent No. 5,464,709. The complaint further alleges that an industry in the United States exists as required by subsection (a)(2) of section 337. The complainants requested that the Commission issue a general exclusion order and cease and desist orders. The Commission named as respondents 26 companies located in the United States, China, Indonesia, and Japan. Id. The ALJ has set September 2, 2004, as the target date for completion of the investigation.

The ALJ issued the subject ID on August 20, 2003. The ID grants the motion of complainants to add Hitachi Maxell, Ltd. of Tokyo, Japan as a respondent in the investigation and amend the complaint and notice of investigation to reflect this fact. The ALJ found that Hitachi Maxell, Ltd. is the parent corporation of another respondent in the investigation, Maxell Corporation of America. He also found that Hitachi Maxell, Ltd. has information that is relevant to the investigation and which is necessary for building a complete record. Therefore, he concluded that Hitachi Maxell, Ltd. should be added as a respondent in the investigation.

This action is taken under the authority of section 337 of the Tariff Act of 1930, as amended, 19 U.S.C.1337, and Commission rule 210.42, 19 CFR 210.42.

Issued: September 12, 2003.
By order of the Commission.
Marilyn R. Abbott,
Secretary.

[FR Doc. 03-23918 Filed 9-18-03; 8:45 am]

BILLING CODE 8040-01-P